DEPARTMENT OF VETERANS AFFAIRS

Voluntary Service National Advisory Committee; Notice of Meeting

The Department of Veterans Affairs (VA) gives notice under the Federal Advisory Committee Act, 5 U.S.C. App.2, that the annual meeting of the Department of Veterans Affairs Voluntary Service (VAVS) National Advisory Committee (NAC) will be held April 23-25, 2014, at the Embassy Suites, Raleigh-Durham Research Triangle Park, 201 Harrison Oaks Boulevard, Cary, North Carolina. On April 23, the meeting will begin at 8:00 a.m. and end at 11:30 a.m. On April 24-25, 2014, the meetings will begin at 8:30 a.m. and end at 4:30 p.m. on April 24, and at 3:45 p.m. on April 25. The meeting is open to the public.

The Committee, comprised of fifty-three national voluntary organizations, advises the Secretary, through the Under Secretary for Health, on the coordination and promotion of volunteer activities within VA facilities. The purposes of this meeting are: To provide for Committee review of volunteer policies and procedures; to accommodate full and open communications between organization representatives and the Voluntary Service Office and field staff; to provide educational opportunities geared towards improving volunteer programs with special emphasis on methods to recruit, retain, place, motivate, and recognize volunteers; and to provide Committee recommendations. The April 23 session will include a National Executive Committee Meeting, Health and Information Fair, and VAVS Representative and Deputy Representative training session. The April 24 business session will include remarks from local officials, the Voluntary Service Report, Veterans Health Administration Update, and remarks by VA officials on new and ongoing VA initiatives. The recipients of the American Spirit Recruitment Awards, VAVS Award for Excellence, and the NAC male and female Volunteer of the Year awards will be recognized. Educational workshops will be held in the afternoon and will focus on innovative volunteer assignments, leadership, and community engagement. On April 25, the morning business session will include subcommittee reports and presentations on key issues. The educational workshops will be repeated in the afternoon. No time will be allocated at this meeting for receiving oral presentations from the public. However, the public may submit written statements for the Committee's review to Ms. Sabrina C. Clark, Designated Federal Officer, Voluntary Service Office (10B2A), Department of Veterans Affairs, 810 Vermont Avenue NW., Washington, DC 20420, or email at Sabrina.Clark@va.gov. Because the meeting will be in a Government building, anyone attending must be prepared to show a valid photo ID for checking in. Please allow 15 minutes before the meeting begins for this process. Any member of the public wishing to attend the meeting or seeking additional information should contact Ms. Clark at (202) 461-7300.

Dated: March 25, 2014.
Jelessa M. Burney,
Advisory Committee Management Officer.

[FR Doc. 2014-06902 Filed 3-27-14; 8:45 am]

BILLING CODE P